DEPARTMENT OF ENERGY

Federal Energy Regulatory Commission

Combined Notice of Filings No. 1

June 3, 2009.

Take notice that the Commission has received the following Natural Gas Pipeline Rate and Refund Report filings:

Docket Numbers: RP09-618-000.

Applicants: Stingray Pipeline Company, LLC.

Description: Stingray Pipeline Company, LLC submits Tenth Revised Sheet 199 to FERC Gas Tariff—Third Revised Volume 1, to be effective 8/1/09.

Filed Date: 05/28/2009.

Accession Number: 20090529-0092.

Comment Date: 5 p.m. Eastern Time on Tuesday, June 9, 2009.

Docket Numbers: RP09-622-000.

Applicants: Garden Banks Gas Pipeline, LLC.

Description: Garden Banks Gas Pipeline, LLC submits Eleventh Revised Sheet 136 et al. to FERC Gas Tariff—Original Volume 1, to be effective 8/1/09.

Filed Date: 05/28/2009.

Accession Number: 20090529-0088.

Comment Date: 5 p.m. Eastern Time on Tuesday, June 9, 2009.

Docket Numbers: RP09-623-000.

Applicants: Mississippi Canyon Gas Pipeline, LLC.

Description: Mississippi Canyon Gas Pipeline, LLC submits Sixth revised Sheet 151 et al. of its FERC Gas Tariff—First Revised Volume 1, to be effective 8/1/09.

Filed Date: 05/28/2009.

Accession Number: 20090529-0087.

Comment Date: 5 p.m. Eastern Time on Tuesday, June 9, 2009.

Docket Numbers: RP09-624-000.

Applicants: Enbridge Pipelines (Midla) LLC.

Description: Enbridge Pipelines (Midla) LLC submits Second Revised Sheet 188A et al. of its FERC Gas Tariff—Fifth Revised Volume 1 under RM96-1 et al.

Filed Date: 05/28/2009.

Accession Number: 20090529-0086.

Comment Date: 5 p.m. Eastern Time on Tuesday, June 9, 2009.

Docket Numbers: RP09-630-000.

Applicants: Transcontinental Gas Pipe Line Company,

Description: Transcontinental Gas Pipe Line Co, LLC submits First Revised Sheet 31 et al. to FERC Gas Tariff—Fourth Revised Volume 1, to be effective 7/1/09.

Filed Date: 05/29/2009.

Accession Number: 20090529-0107.

Comment Date: 5 p.m. Eastern Time on Wednesday, June 10, 2009.

Docket Numbers: RP09-631-000.

Applicants: Northwest Pipeline GP.

Description: Northwest Pipeline GP requests limited waiver from 5/21/09 to 6/17/09 of First Revised Sheet 302-B et al. to FERC Gas Tariff.

Filed Date: 05/29/2009.

Accession Number: 20090529-0106.

Comment Date: 5 p.m. Eastern Time on Wednesday, June 10, 2009.

Docket Numbers: RP09-637-000.

Applicants: Eastern Shore Natural Gas Company.

Description: Eastern Shore Natural Gas Company submits Twenty-Fourth Revised Sheet No. 4 et al. to its FERC Gas Tariff, Second Revised Volume No. 1 with a proposed effective date of 7/1/09.

Filed Date: 05/29/2009.

Accession Number: 20090601-0185.

Comment Date: 5 p.m. Eastern Time on Wednesday, June 10, 2009.

Docket Numbers: RP09-638-000.

Applicants: Great Lakes Gas Transmission Limited Par.

Description: Great Lakes Gas Transmission Limited Partnership submits tariff filing in compliance with the Final Rule in Order No. 587-T, to be effective 7/1/09.

Filed Date: 05/29/2009.

Accession Number: 20090601-0184.

Comment Date: 5 p.m. Eastern Time on Wednesday, June 10, 2009.

Docket Numbers: RP09-642-000.

Applicants: ANR Pipeline Company.

Description: ANR Storage Company submits Ninth Revised Sheet No 137 et al. to its FERC Gas Tariff, Second Revised Volume No. 1.

Filed Date: 05/29/2009.

Accession Number: 20090601-0193.

Comment Date: 5 p.m. Eastern Time on Wednesday, June 10, 2009.

Docket Numbers: RP09-643-000.

Applicants: Blue Lake Gas Storage Company.

Description: Blue Lake Gas Storage Company submits Fourteenth Revised Sheet No. 153 to its FERC Gas Tariff, First Revised Volume No 1.

Filed Date: 05/29/2009.

Accession Number: 20090601-0192.

Comment Date: 5 p.m. Eastern Time on Wednesday, June 10, 2009.

Docket Numbers: RP09-644-000.

Applicants: ANR Storage Company.

Description: ANR Storage Company submits Fourteenth Revised Sheet No. 153 to its FERC Gas Tariff, Original Volume No 1.

Filed Date: 05/29/2009.

Accession Number: 20090601-0191.

Comment Date: 5 p.m. Eastern Time on Wednesday, June 10, 2009.

Docket Numbers: RP09-645-000.

Applicants: Liberty Gas Storage, LLC.

Description: Liberty Gas Storage LLC submits Second Revised Sheet No. 149 et al. to its FERC Gas Tariff, First Revised Volume No. 1.

Filed Date: 05/29/2009.

Accession Number: 20090601-0190.

Comment Date: 5 p.m. Eastern Time on Wednesday, June 10, 2009.

Docket Numbers: RP09-646-000.

Applicants: Cameron Interstate Pipeline, LLC.

Description: Cameron Interstate Pipeline LLC submits First Revised Sheet No. 166 et al. to its FERC Gas Tariff, First Revised Volume No. 1.

Filed Date: 05/29/2009.

Accession Number: 20090601-0189.

Comment Date: 5 p.m. Eastern Time on Wednesday, June 10, 2009.

Docket Numbers: RP09-649-000.

Applicants: Bluewater Gas Storage, LLC.

Description: Bluewater Gas Storage, LLC submits First Revised Sheet No. 150 et al. to its FERC Gas Tariff, Original Volume No. 1.

Filed Date: 05/29/2009.

Accession Number: 20090601-0188.

Comment Date: 5 p.m. Eastern Time on Wednesday, June 10, 2009.

Docket Numbers: RP09-651-000.

Applicants: Pine Prairie Energy Center, LLC.

Description: Pine Prairie Energy Center, LLC submits First Revised Sheet No. 153 et al. to its FERC Gas Tariff, Original Volume No. 1.

Filed Date: 05/29/2009.

Accession Number: 20090601-0187.

Comment Date: 5 p.m. Eastern Time on Wednesday, June 10, 2009.

Docket Numbers: RP09-653-000.

Applicants: Questar Southern Trails Pipeline Company.

Description: Questar Southern Trails Pipeline Company submits annual fuel reimbursement report for the twelve months ended 3/31/09.

Filed Date: 05/29/2009.

Accession Number: 20090601-0183.

Comment Date: 5 p.m. Eastern Time on Wednesday, June 10, 2009.

Docket Numbers: RP09-654-000.

Applicants: White River Hub LLC.

Description: White River Hub, LLC submits annual fuel reimbursement report for the period ended 3/31/09.

Filed Date: 05/29/2009.

Accession Number: 20090601-0182.

Comment Date: 5 p.m. Eastern Time on Wednesday, June 10, 2009.

Docket Numbers: RP09-655-000.

Applicants: Kinder Morgan Interstate Gas Transmission LLC.

Description: Kinder Morgan Interstate Gas Transmission LLC submits Fifth Revised Sheet No. 89C et al. to its FERC Gas Tariff, Fourth Revised Volume No. 1-B to be effective 8/1/09.

Filed Date: 06/01/2009.

Accession Number: 20090601-0186.

Comment Date: 5 p.m. Eastern Time on Monday, June 15, 2009.

Docket Numbers: RP09-656-000.

Applicants: Discovery Gas Transmission LLC.

Description: Discovery Gas Transmission LLC submits for filing and acceptance Tenth Revised Sheet 33 et al. to FERC Gas Tariff, Original Volume 1 to be effective 7/1/09.

Filed Date: 06/01/2009.

Accession Number: 20090602-0135.

Comment Date: 5 p.m. Eastern Time on Monday, June 15, 2009.

Docket Numbers: RP09-657-000.

Applicants: Millennium Pipeline Company, LLC.

Description: Millennium Pipeline Company, LLC, submits First Revised Sheet 380 et al. to its FERC Gas Tariff, Original Volume 1 to be effective 8/1/09.

Filed Date: 06/01/2009.

Accession Number: 20090602-0136.

Comment Date: 5 p.m. Eastern Time on Monday, June 15, 2009.

Docket Numbers: RP09-658-000.

Applicants: Columbia Gas Transmission, LLC.

Description: Columbia Gas Transmission, LLC submits First Revised Sheet 385 et al. to FERC Gas Tariff, Third Revised Volume 1 to be effective 8/1/09.

Filed Date: 06/01/2009.

Accession Number: 20090602-0137.

Comment Date: 5 p.m. Eastern Time on Monday, June 15, 2009.

Docket Numbers: RP09-659-000.

Applicants: Saltville Gas Storage Company LLC.

Description: Saltville Gas Storage submits Third Revised Sheet 148 et al. to its FERC Gas Tariff, Original Volume 1 to be effective 8/1/09.

Filed Date: 06/01/2009.

Accession Number: 20090602-0138.

Comment Date: 5 p.m. Eastern Time on Monday, June 15, 2009.

Docket Numbers: RP09-660-000.

Applicants: CenterPoint Energy-Mississippi River Transmission Corporation.

Description: CenterPoint Energy- Mississippi River Transmission Corporation submits Thirteenth Revised Sheet 80 et al. to its FERC Gas Tariff, Third Revised Volume 1 to be effective 9/1/09.

Filed Date: 06/01/2009.

Accession Number: 20090602-0139.

Comment Date: 5 p.m. Eastern Time on Monday, June 15, 2009.

Docket Numbers: RP09-661-000.

Applicants: Cheyenne Plains Gas Pipeline Company, LL.

Description: Cheyenne Plains Gas Pipeline Company submits for acceptance Third Revised Sheet 205 et al. to its FERC Gas Tariff, Original Volume 1 to be effective 8/1/09.

Filed Date: 06/01/2009.

Accession Number: 20090602-0140.

Comment Date: 5 p.m. Eastern Time on Monday, June 15, 2009.

Docket Numbers: RP09-662-000.

Applicants: El Paso Natural Gas Company.

Description: Pipeline Integrity Program Refund Report reflecting 2007 Accounting Data of El Paso Natural Gas Company.

Filed Date: 06/01/2009.

Accession Number: 20090601-5250.

Comment Date: 5 p.m. Eastern Time on Monday, June 15, 2009.

Docket Numbers: RP09-663-000.

Applicants: Energy West Development, Inc.

Description: Energy West Development, Inc submits Third Revised Sheet 29 et al. to its FERC Gas Tariff, Original Volume 1 to be effective 8/1/09.

Filed Date: 06/01/2009.

Accession Number: 20090602-0141.

Comment Date: 5 p.m. Eastern Time on Monday, June 15, 2009.

Docket Numbers: RP09-664-000.

Applicants: CenterPoint Energy Gas Transmission Company.

Description: CenterPoint Energy Gas Transmission Company submits Third Revised Sheet No. 582 to its FERC Gas Tariff, Sixth Revised Volume No. 1.

Filed Date: 06/01/2009.

Accession Number: 20090602-0142.

Comment Date: 5 p.m. Eastern Time on Monday, June 15, 2009.

Docket Numbers: RP09-665-000.

Applicants: Mojave Pipeline Company.

Description: Mojave Pipeline Company submits Tenth Revised Sheet No. 202 et al. to its FERC Gas Tariff, Second Revised Volume No. 1.

Filed Date: 06/01/2009.

Accession Number: 20090602-0143.

Comment Date: 5 p.m. Eastern Time on Monday, June 15, 2009.

Docket Numbers: RP09-666-000.

Applicants: El Paso Natural Gas Company.

Description: El Paso Natural Gas Company submits Fifth Revised Sheet No. 202A 01 et al. to its FERC Gas Tariff, Second Revised Volume No. 1A.

Filed Date: 06/01/2009.

Accession Number: 20090602-0144.

Comment Date: 5 p.m. Eastern Time on Monday, June 15, 2009.

Docket Numbers: RP09-667-000.

Applicants: Young Gas Storage Company, Ltd.

Description: Young Gas Storage Company, LTD submits Fourteenth Revised Sheet No. 49 et al. to its FERC Gas Tariff, Original Volume No. 1.

Filed Date: 06/01/2009.

Accession Number: 20090602-0145.

Comment Date: 5 p.m. Eastern Time on Monday, June 15, 2009.

Docket Numbers: RP09-668-000.

Applicants: Wyoming Interstate Company, Ltd.

Description: Wyoming Interstate Company, Ltd submits Fifth Revised Sheet No. 37C 01 et al. to its FERC Gas Tariff, Second Revised Volume No. 2.

Filed Date: 06/01/2009.

Accession Number: 20090602-0146.

Comment Date: 5 p.m. Eastern Time on Monday, June 15, 2009.

Docket Numbers: RP09-669-000.

Applicants: Colorado Interstate Gas Company.

Description: Colorado Interstate Gas Company submits Eighteenth Revised Sheet No. 231 et al. to its FERC Gas Tariff, First Revised Volume No. 1.

Filed Date: 06/01/2009.

Accession Number: 20090602-0147.

Comment Date: 5 p.m. Eastern Time on Monday, June 15, 2009.

Docket Numbers: RP09-670-000.

Applicants: Southern Natural Gas Company.

Description: Southern Natural Gas Company submits Twelfth Revised Sheet No. 212H to its FERC Gas Tariff, Seventh Revised Volume No. 1.

Filed Date: 06/01/2009.

Accession Number: 20090602-0148.

Comment Date: 5 p.m. Eastern Time on Monday, June 15, 2009.

Docket Numbers: RP09-671-000.

Applicants: Southern LNG Inc.

Description: Southern LNG Inc submits Fourth Revised Sheet No. 99 et al. to its FERC Gas Tariff, Original Volume No. 1.

Filed Date: 06/01/2009.

Accession Number: 20090602-0149.

Comment Date: 5 p.m. Eastern Time on Monday, June 15, 2009.

Docket Numbers: RP09-672-000.

Applicants: Black Marlin Pipeline Company.

Description: Black Marlin Pipeline Company submits Title page et al. to its FERC Gas Tariff, Original Volume No. 1.

Filed Date: 06/01/2009.

Accession Number: 20090602-0150.

Comment Date: 5 p.m. Eastern Time on Monday, June 15, 2009.

Docket Numbers: RP09-673-000.

Applicants: Discovery Gas Transmission LLC.

Description: Discovery Gas Transmission LLC submits Tenth Revised Sheet No. 196 to it FERC Gas Tariff, Original Volume No. 1.

Filed Date: 06/01/2009.

Accession Number: 20090602-0151.

Comment Date: 5 p.m. Eastern Time on Monday, June 15, 2009.

Docket Numbers: RP09-674-000.

Applicants: USG Pipeline Company.

Description: USG Pipeline Company submits Sixth Revised Sheet No. 71 to its FERC Gas Tariff, Original Volume No. 1.

Filed Date: 06/01/2009.

Accession Number: 20090602-0152.

Comment Date: 5 p.m. Eastern Time on Monday, June 15, 2009.

Docket Numbers: RP09-675-000.

Applicants: Dominion Transmission, Inc.

Description: Dominion Transmission, Inc submits Seventh Revised Sheet No. 1173 to its FERC Gas Tariff, Third Revised Volume No. 1.

Filed Date: 06/01/2009.

Accession Number: 20090602-0153.

Comment Date: 5 p.m. Eastern Time on Monday, June 15, 2009.

Docket Numbers: RP09-676-000.

Applicants: Dominion South Pipeline Co., LP.

Description: Dominion South Pipeline Company, LP submits First Revised Sheet No. 1056 to its FERC Gas Tariff, Original Volume No. 1.

Filed Date: 06/01/2009.

Accession Number: 20090602-0154.

Comment Date: 5 p.m. Eastern Time on Monday, June 15, 2009.

Docket Numbers: RP09-677-000.

Applicants: Dominion Cove Point LNG, LP.

Description: Dominion Cove Point LNG, LP submits Third Revised Sheet No. 279 to its FERC Gas Tariff, Original Volume No. 1.

Filed Date: 06/01/2009.

Accession Number: 20090602-0155.

Comment Date: 5 p.m. Eastern Time on Monday, June 15, 2009.

Docket Numbers: RP09-678-000.

Applicants: Midcontinent Express Pipeline LLC.

Description: Midcontinent Express Pipeline LLC submits ten amendments to existing negotiated rate Transportation Rate Schedule FTS Agreements between MEP and the Shippers.

Filed Date: 06/01/2009.

Accession Number: 20090602-0167.

Comment Date: 5 p.m. Eastern Time on Monday, June 15, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-13392 Filed 6-8-09; 8:45 am]

BILLING CODE 6717-01-P